DEPARTMENT OF TRANSPORTATION

Federal Aviation Administration

FAA Approval of Noise Compatibility Program; Louisville International Airport, Louisville, KY

AGENCY: Federal Aviation Administration, DOT.

ACTION: Notice.

SUMMARY: The Federal Aviation Administration (FAA) announces its findings on the noise compatibility program submitted by Louisville Regional Airport Authority (formerly dba, Regional Airport Authority of Louisville and Jefferson County, Kentucky) under the provisions of 49 U.S.C. (the Aviation Safety and Noise Abatement Act, hereinafter referred to as “the Act”) and 14 CFR Part 150. These findings are made in recognition of the description of Federal and nonfederal responsibilities in Senate Report No. 96-52 (1980). On November 18, 2003, the FAA determined that the noise exposure maps submitted by Louisville Regional Airport Authority (LRAA) under Part 150 were in compliance with applicable requirements. On May 14, 2004, the FAA approved the Louisville International Airport noise compatibility program. Twenty of the forty-two recommendations of the program were approved; eight of the forty-two recommendations were approved in part; three measures were disapproved; and four measures of the forty-two recommendations were disapproved for FAR Part 150 purposes. No action was taken on seven of the program elements relating to new or revised flight procedures for noise abatement proposed by the airport operator until further study and/or environmental analysis are completed.

DATES: Effective Date: The effective date of the FAA's approval of the Louisville International Airport noise compatibility program is May 14, 2004.

FOR FURTHER INFORMATION CONTACT: Jerry O. Bowers, Airports Program Manager, 2862 Business Park Drive, Building G, Memphis, Tennessee 38118-1555, Telephone: (901) 322-8184. Documents reflecting this FAA action may be reviewed at this same location.

SUPPLEMENTARY INFORMATION: This notice announces that the FAA has given its overall approval to the noise compatibility program for Louisville International Airport, May 14, 2004.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Airports District Office in Memphis, Tennessee.

Louisville Regional Airport Authority submitted to the FAA on February 12, 2003, the noise exposure maps, descriptions, and other documentation produced during the noise compatibility planning study conducted from April 16, 1999, through February 12, 2003. The Louisville International Airport noise exposure maps were determined by FAA to be in compliance with applicable requirements on November 18, 2003. Notice of this determination was published in the Federal Register on December 15, 2003.

The Louisville International Airport study contains a proposed noise compatibility program comprised of actions designed for phased implementation by airport management and adjacent jurisdictions from February 12, 2003, beyond the year 2008. It was requested that the FAA evaluate and approve this material as a noise compatibility program as described in section 47504 of the Act. The FAA began its review of the program on November 18, 2003, and was required by a provision of the Act to approve or disapprove the program within 180 days (other than the use of new or modified flight procedures for noise control). Failure to approve or disapprove such program within the 180-day period shall be deemed to be an approval of such program.

The submitted program contained 42 proposed actions for noise mitigation on and/or off the airport. The FAA completed its review and determined that the procedural and substantive requirements of the Act and FAR Part 150 have been satisfied. The overall program, therefore, was approved by the FAA effective, May 14, 2004.

Outright approval was granted for 20 specific program elements. Measures that were approved are: maintain south flow runway preference; southbound divergence according to destination, continuation of existing Air Traffic Control procedure; maintain Contraflow Program, continuation of existing ATC procedure; request the airlines serving the airport to use FAA Distant Noise Abatement Departure Procedure in Advisory Circular 91-53A, Noise Abatement Departure Procedure; continue airport regulation restricting aircraft engine run-ups to certain hours and locations; continue the current Voluntary Residential Acquisition Program including the Innovative Housing Program; expanded Voluntary Residential Acquisition within the DNL 65dB to the south of the airport that will continue to be exposed to significant noise levels in 2008; provide soundproofing in residential areas within the DNL 65 dB contour to the north of the airport; offer sound insulation for noncompatible institutional areas within the DNL 65 (potentially University of Louisville & additional churches); Residential Sales Assistant Program within DNL 65; construct an earth berm along the northwest side of the airfield to reduce ground noise associated with aircraft departures on Runway 17R: study potential noise barrier for Preston Park neighborhood (approved for study); LRAA would coordinate with the Planning Commission to adopt a policy concerning rezoning from compatible to noncompatible in the airport environs; consider disclosure ordinances; avigation easement purchase within DNL 65; establish new LRAA staff position dedicated to management of the noise compatibility program; establish advisory committee composed of community, user, and air traffic control interests to maintain coordination among the stakeholders in the noise compatibility program; acquire portable noise monitoring equipment to enable the Authority's Noise/Environmental Programs Coordinator to monitor actual noise and provide accurate information to community members; acquire equipment to monitor aircraft operations and establish a regular program of monitoring and reporting conformance with recommended noise abatement procedures; and the LRAA would use the Airport Noise Office as a central point to collect and disseminate information.

Measures that were approved in part are: designate departure and arrival flight tracks to be used by all turbojet and applicable turboprop aircraft weighing over 12,500 pounds (The measure is disapproved for new noise abatement flight tracks outside of existing corridors. FAA has suspended RNAV departure procedure development at this time); assign GPS/FMS or RNAV equipped aircraft to define FMS/GPS departure and arrival flight tracks for turbojet and military aircraft (this new measure is disapproved for new noise abatement flight tracks outside of existing corridors. FAA has suspended RNAV departure procedure development at this time); FMS/GPS departure and arrival flight tracks for turboprop aircraft weighing over 12,500 pounds (This new measure, is disapproved for new noise abatement flight tracks outside of existing corridors. FAA has suspended RNAV departure procedure development at this time); Compatible Land Use Planning (the portion permitting new incompatible development within the DNL 65 dB is disapproved for purposes of Part 150); Subdivision Regulations (the portion permitting new incompatible development within the DNL 65 dB is disapproved for purposes of Part 150); LRAA would consider participation in a Redevelopment Program (Renaissance Zone Program) initiative that would redevelop areas in the airport environs as part of a joint effort with the Fairgrounds, UPS, and Ford Motor Company (the portion permitting new incompatible development within the DNL 65 dB is disapproved for purposes of Part 150); LRAA would work with the Planning Commission to develop an overlay zone, to supplement other land use planning techniques (the portion permitting new incompatible development within the DNL 65 dB is disapproved for purposes of Part 150); and Building Code Revision (the portion permitting new incompatible development within the DNL 65 dB is disapproved for purposes of Part 150).

The three measures that were disapproved for Part 150 purposes because Public Law 108-176, Vision 100-Century Of Aviation Reauthorization Act, December 12, 2003, specifically prohibits FAA approval of Part 150 measures that call for Federal funding to mitigate aircraft noise below DNL 65 are: residential sound insulation for areas between DNL 60 and DNL 65 that would experience a 3 dB increase in noise levels as a result of the recommended noise abatement measures; and the LRAA would offer to purchase avigation easements from homeowners in areas exposed to DNL 60 to DNL 65 noise levels that experience a 3dB increase in noise exposure and that are eligible for residential soundproofing and sales assistance who do not believe they would benefit from either program. One measure was disapproved for Part 150 purposes because it requires departing aircraft to be “aimed” directly at arriving aircraft, and greater use increases the potential for loss of separation between arriving and departing aircraft, which introduces safety issues and delay; reduce exceptions to contraflow, enhancement of existing measure. This disapproval under Part 150 does not prohibit airport management from seeking cooperation from the airlines to adjust schedules on a voluntary basis to more closely conform to normal peak periods.

One operational measure that was disapproved is: elimination of early descent (new measure, disapproved because the measure as described would have the effect of “prohibiting descents” rather than “discourage descents” below the minimum, published altitude at the identified fixes).

Measures disapproved pending further information are: limit use of north runway extension to aircraft needing full runway length and use south extension for departures to the north and construct ground run-up enclosure (Hush Houses) if required to reduce noise from maintenance run-up activity.

Operational measures that were not acted on because they require further technical evaluation and/or environmental study are: reverse east-west preference (day and night), reverse the current runway use program to prefer the west runway; morning north flow preference (revision of existing measure); use offset departure from Runway 35L and offset approach to Runway 17R; request FAA ATCT to require all aircraft to intercept the runway centerline at or beyond the initial approach fix; request FAA to publish a Standard Instrument Departure (SID) procedure for each runway to be used in all weather conditions, including VFR conditions (new measure); request FAA to publish a Standard Terminal Arrival Route (STAR) for each runway to be used in all weather conditions including VFR conditions (new measure); as part of the ongoing noise management program, extend noise abatement flight tracks beyond those identified in other measures.

In accordance with FAR Part 150, Section B150.3, the Louisville Regional Airport Authority must revise the future Noise Exposure Map, NEM 2008 since twelve operational measures were either approved in part, disapproved, or action was deferred pending further technical and environmental evaluation.

These determinations are set forth in detail in a Record of Approval signed by the Associate Administrator for Airports on May 14, 2004. The Record of Approval, as well as other evaluation materials and the documents comprising the submittal, are available for review at the FAA office listed above and at the administrative offices of the Louisville Regional Airport Authority. The Record of Approval also will be available on-line at http://www.faa.gov/arp/environmental/14cfr150/index14.cfm.

Issued in Memphis, Tennessee May 24, 2004.
LaVerne F. Reid,
Manager, Memphis Airports District Office.

[FR Doc. 04-12329 Filed 5-28-04; 8:45 am]

BILLING CODE 4910-13-M